DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Obligated Service for Mental Health Traineeships: Regulations (42 CFR Part 62a) and Forms (OMB No. 0930-0074)—Revision

SAMHSA's Center for Mental Health Services (CMHS) awards grants to institutions for training instruction and traineeships in mental health and related disciplines. Prior to statutory change in 2000, graduate student recipients of these clinical traineeships were required to perform service, as determined by the Secretary to be appropriate in terms of the individual's training and experience, for a length of time equal to the period of support. The clinical trainees funded prior to implementation of the statutory change are required to submit the SAMHSA Form SMA 111-2, which is an annual report on employment status and any changes in name and/or address, to SAMHSA.

The annual burden estimate is provided below.

42 CFR citation | Number of respondents | Responses per respondent | Average burden per response (Hrs.) | Annual burden (hrs.)
64a.105(b)(2): Annual Payback Activities Certification—SMA 111-2 | *57 | 1 | .18 | 10
* The actual number of trainees is now 83, less the estimated number in 3 years of 30 = 53; 53 divided by 2 = 27; 27 + 30 = 57.

Written comments and recommendations concerning the proposed information collection should be sent by May 9, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: April 2, 2007.
Elaine Parry,
Acting Director, Office of Program Services.

[FR Doc. E7-6474 Filed 4-6-07; 8:45 am]

BILLING CODE 4162-20-P